DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the names of a person and vessels that have been placed on OFAC's Specially Designated Nationals and Blocked Persons List (SDN List) based on OFAC's determination that one or more applicable legal criteria were satisfied. All property and interests in property subject to U.S. jurisdiction of this person and vessels are blocked, and U.S. persons are generally prohibited from engaging in transactions with them.

DATES: See SUPPLEMENTARY INFORMATION section for applicable date(s).

FOR FURTHER INFORMATION CONTACT: OFAC: Bradley T. Smith, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The Specially Designated Nationals and Blocked Persons List and additional information concerning OFAC sanctions programs are available on OFAC's website (https://www.treasury.gov/ofac).

Notice of OFAC Action(s)

On January 18, 2024, OFAC determined that the property and interests in property subject to U.S. jurisdiction of the following person is blocked under the relevant sanctions authority listed below.

Entity

1. HENNESEA HOLDINGS LIMITED, 1229, Al Sila Tower, Adgm Square, Al Maryah Island, Abu Dhabi, United Arab Emirates; Organization Established Date 2022; License 000008900 (United Arab Emirates); Economic Register Number (CBLS) 11978506 (United Arab Emirates) [RUSSIA-EO14024].

Designated pursuant to section 1(a)(i) of Executive Order 14024 of April 15, 2021, “Blocking Property With Respect To Specified Harmful Foreign Activities of the Government of the Russian Federation,” 86 FR 20249, 3 CFR, 2021 Comp., p. 542 (Apr. 15, 2021) (E.O. 14024) for operating or having operated in the marine sector of the Russian Federation economy.

On January 18, 2024, OFAC also identified the following vessels as property in which a blocked person has an interest, under the relevant sanctions authority listed below:

Vessels

1. ARISTO (5LJI7) Chemical/Products Tanker Liberia flag; Vessel Registration Identification IMO 9327413; MMSI 636022549 (vessel) [RUSSIA-EO14024] (Linked To: HENNESEA HOLDINGS LIMITED).

Identified as property in which Hennesea Holdings Limited, a person whose property and interests in property are blocked pursuant to E.O. 14024, has an interest.

2. HAI II (D5HH9) Crude Oil Tanker Liberia flag; Vessel Registration Identification IMO 9259599; MMSI 636016693 (vessel) [RUSSIA-EO14024] (Linked To: HENNESEA HOLDINGS LIMITED).

Identified as property in which Hennesea Holdings Limited, a person whose property and interests in property are blocked pursuant to E.O. 14024, has an interest.

3. HS ARGE (5LIK5) Crude Oil Tanker Liberia flag; Vessel Registration Identification IMO 9299745; MMSI 636022360 (vessel) [RUSSIA-EO14024] (Linked To: HENNESEA HOLDINGS LIMITED).

Identified as property in which Hennesea Holdings Limited, a person whose property and interests in property are blocked pursuant to E.O. 14024, has an interest.

4. HS ATLANTICA (5LIP5) Crude Oil Tanker Liberia flag; Vessel Registration Identification IMO 9322839; MMSI 636022401 (vessel) [RUSSIA-EO14024] (Linked To: HS ATLANTICA LIMITED; Linked To: HENNESEA HOLDINGS LIMITED).

Identified as property in which Hennesea Holdings Limited, a person whose property and interests in property are blocked pursuant to E.O. 14024, has an interest.

5. HS BURAQ (5LIK9) Products Tanker Liberia flag; Vessel Registration Identification IMO 9381732; MMSI 636022364 (vessel) [RUSSIA-EO14024] (Linked To: HENNESEA HOLDINGS LIMITED).

Identified as property in which Hennesea Holdings Limited, a person whose property and interests in property are blocked pursuant to E.O. 14024, has an interest.

6. HS ESBERG (5LIN6) Products Tanker Liberia flag; Vessel Registration Identification IMO 9410894; MMSI 636022386 (vessel) [RUSSIA-EO14024] (Linked To: HENNESEA HOLDINGS LIMITED).

Identified as property in which Hennesea Holdings Limited, a person whose property and interests in property are blocked pursuant to E.O. 14024, has an interest.

7. HS EVERETT (5LIP7) Crude Oil Tanker Liberia flag; Vessel Registration Identification IMO 9410870; MMSI 636022403 (vessel) [RUSSIA-EO14024] (Linked To: HENNESEA HOLDINGS LIMITED).

Identified as property in which Hennesea Holdings Limited, a person whose property and interests in property are blocked pursuant to E.O. 14024, has an interest.

8. HS GLORY (D5OH4) Crude Oil Tanker Liberia flag; Vessel Registration Identification IMO 9249087; MMSI 636018127 (vessel) [RUSSIA-EO14024] (Linked To: HENNESEA HOLDINGS LIMITED).

Identified as property in which Hennesea Holdings Limited, a person whose property and interests in property are blocked pursuant to E.O. 14024, has an interest.

9. HS LEGEND (5LIK7) Crude Oil Tanker Liberia flag; Vessel Registration Identification IMO 9381744; MMSI 636022362 (vessel) [RUSSIA-EO14024] (Linked To: HENNESEA HOLDINGS LIMITED).

Identified as property in which Hennesea Holdings Limited, a person whose property and interests in property are blocked pursuant to E.O. 14024, has an interest.

10. HS STAR (D5RV6) Crude Oil Tanker Liberia flag; Vessel Registration Identification IMO 9274446; MMSI 636018885 (vessel) [RUSSIA-EO14024] (Linked To: HENNESEA HOLDINGS LIMITED).

Identified as property in which Hennesea Holdings Limited, a person whose property and interests in property are blocked pursuant to E.O. 14024, has an interest.

11. LA PRIDE (5LHW6) Crude Oil Tanker Liberia flag; Vessel Registration Identification IMO 9274616; MMSI 636022251 (vessel) [RUSSIA-EO14024] (Linked To: HENNESEA HOLDINGS LIMITED).

Identified as property in which Hennesea Holdings Limited, a person whose property and interests in property are blocked pursuant to E.O. 14024, has an interest.

12. MONA (5LIS6) Chemical/Oil Tanker Liberia flag; Vessel Registration Identification IMO 9314818; MMSI 636022424 (vessel) [RUSSIA-EO14024] (Linked To: HENNESEA HOLDINGS LIMITED).

13. NELLIS (5LJI8) Chemical/Oil Tanker Liberia flag; Vessel Registration Identification IMO 9322267; MMSI 636022550 (vessel) [RUSSIA-EO14024] (Linked To: HENNESEA HOLDINGS LIMITED).

Identified as property in which Hennesea Holdings Limited, a person whose property and interests in property are blocked pursuant to E.O. 14024, has an interest.

14. OSPEROUS (5LHE4) Crude Oil Tanker Liberia flag; Vessel Registration Identification IMO 9412995; MMSI 636022098 (vessel) [RUSSIA-EO14024] (Linked To: HENNESEA HOLDINGS LIMITED).

Identified as property in which Hennesea Holdings Limited, a person whose property and interests in property are blocked pursuant to E.O. 14024, has an interest.

15. PERIA (5LIZ6) Crude Oil Tanker Liberia flag; Vessel Registration Identification IMO 9322827; MMSI 636022479 (vessel) [RUSSIA-EO14024] (Linked To: HENNESEA HOLDINGS LIMITED).

Identified as property in which Hennesea Holdings Limited, a person whose property and interests in property are blocked pursuant to E.O. 14024, has an interest.

16. SARA II (5LJI4) Chemical/Oil Tanker Liberia flag; Vessel Registration Identification IMO 9301615; MMSI 636022546 (vessel) [RUSSIA-EO14024] (Linked To: HENNESEA HOLDINGS LIMITED).

Identified as property in which Hennesea Holdings Limited, a person whose property and interests in property are blocked pursuant to E.O. 14024, has an interest.

17. SENSUS (5LHJ7) Products Tanker Liberia flag; Vessel Registration Identification IMO 9296585; MMSI 636022146 (vessel) [RUSSIA-EO14024] (Linked To: HENNESEA HOLDINGS LIMITED).

Identified as property in which Hennesea Holdings Limited, a person whose property and interests in property are blocked pursuant to E.O. 14024, has an interest.

18. UZE (5LHB3) Chemical/Oil Tanker Liberia flag; Vessel Registration Identification IMO 9323338; MMSI 636022072 (vessel) [RUSSIA-EO14024] (Linked To: HENNESEA HOLDINGS LIMITED).

Identified as property in which Hennesea Holdings Limited, a person whose property and interests in property are blocked pursuant to E.O. 14024, has an interest.

Dated: January 18, 2024.
Bradley T. Smith,
Director, Office of Foreign Assets Control, U.S. Department of the Treasury.

[FR Doc. 2024-01245 Filed 1-22-24; 8:45 am]

BILLING CODE 4810-AL-P